DEPARTMENT OF THE INTERIOR

Fish and Wildlife Service

[FWS-R9-MB-2008-N0339] [91100-3740-GRNT-7C]

Information Collection Sent to the Office of Management and Budget (OMB) for Approval; 1018-0113; Neotropical Migratory Bird Conservation Act (NMBCA) Grant Programs

AGENCY: Fish and Wildlife Service, Interior.

ACTION: Notice; request for comments.

SUMMARY: We (Fish and Wildlife Service) have sent an Information Collection Request (ICR) to OMB for review and approval. The ICR, which is summarized below, describes the nature of the collection and the estimated burden and cost. This ICR is scheduled to expire on December 31, 2008. We may not conduct or sponsor and a person is not required to respond to a collection of information unless it displays a currently valid OMB control number. However, under OMB regulations, we may continue to conduct or sponsor this information collection while it is pending at OMB.

DATES: You must send comments on or before January 21, 2009.

ADDRESSES: Send your comments and suggestions on this ICR to the Desk Officer for the Department of the Interior at OMB-OIRA at (202) 395-6566 (fax) or OIRA_DOCKET@OMB.eop.gov (e-mail). Please provide a copy of your comments to Hope Grey, Information Collection Clearance Officer, Fish and Wildlife Service, MS 222-ARLSQ, 4401 North Fairfax Drive, Arlington, VA 22203 (mail) or hope_grey@fws.gov (e-mail).

FOR FURTHER INFORMATION CONTACT: To request additional information about this ICR, contact Hope Grey by mail or e-mail (see ADDRESSES) or by telephone at (703) 358-2482.

SUPPLEMENTARY INFORMATION:

OMB Control Number: 1018-0113.

Title: Neotropical Migratory Bird Conservation Act (NMBCA) Grant Programs.

Service Form Number(s): None.

Type of Request: Extension of currently approved collection.

Affected Public: Domestic or foreign individuals; corporations, partnerships, trusts, associations, or other private entities; and State/local/tribal governments.

Respondent's Obligation: Required to obtain or retain a benefit.

Frequency of Collection: On occasion. This grants program has one project proposal submission per year. Annual reports are due 90 days after the anniversary date of the grant agreement. Final reports are due 90 days after the end of the project period. The project period is up to 2 years.

Activity | Number of annual respondents | Number of annual responses | Completion time per response | Annual burden hours
Grant Applications | 100 | 120 | 70 hours | 8,400
Reports | 65 | 75 | 30 hours | 2,250
Totals | 165 | 195 |  | 10,650

Abstract: The Neotropical Migratory Bird Conservation Act establishes a matching grants program to fund projects that promote the conservation of neotropical migratory birds in the United States, Canada, Latin America, and the Caribbean. The purposes of NMBCA are to:

(1) Perpetuate healthy populations of neotropical migratory birds;

(2) Assist in the conservation of these birds by supporting conservation initiatives in the United States, Canada, Latin America, and the Caribbean; and

(3) Provide financial resources and foster international cooperation for those initiatives.

Principal conservation actions supported by NMBCA are:

(1) Protection and management of neotropical migratory bird populations.

(2) Maintenance, management, protection, and restoration of neotropical migratory bird habitat.

(3) Research and monitoring.

(4) Law enforcement.

(5) Community outreach and education.

We publish notices of funding availability on the Grants.gov website (http://www.grants.gov) as well as in the Catalog of Federal Domestic Assistance (http://cfda.gov). To compete for grant funds, partnerships submit applications that describe in substantial detail project locations, project resources, future benefits, and other characteristics that meet the standards established by the Fish and Wildlife Service and the requirements of NMBCA.

Materials that describe the program and assist applicants in formulating project proposals for consideration are available on our website at http://www.fws.gov/birdhabitat. Persons who do not have access to the Internet may obtain instructional materials by mail. We have not made any major changes in the scope and general nature of the instructions since the OMB first approved the information collection in 2002.

Comments: On June 24, 2008, we published in the Federal Register (73 FR 35704) a notice of our intent to request that OMB renew this ICR. In that notice, we solicited comments for 60 days, ending on August 25, 2008. We received one comment. The comment expressed opposition to the NMBCA grants program, but did not address the information collection requirements. We did not make any changes to our information collection requirements as a result of this comment.

We again invite comments concerning this information collection on:

(1) Whether or not the collection of information is necessary, including whether or not the information will have practical utility;

(2) The accuracy of our estimate of the burden for this collection of information;

(3) Ways to enhance the quality, utility, and clarity of the information to be collected; and

(4) Ways to minimize the burden of the collection of information on respondents.

Comments that you submit in response to this notice are a matter of public record. Before including your address, phone number, e-mail address, or other personal identifying information in your comment, you should be aware that your entire comment, including your personal identifying information, may be made publicly available at any time. While you can ask OMB in your comment to withhold your personal identifying information from public review, we cannot guarantee that it will be done.

Dated: November 28, 2008
Hope Grey,
Information Collection Clearance Officer, Fish and Wildlife Service.

FR Doc. E8-30432 Filed 12-19-08; 8:45 am

BILLING CODE 4310-55-S